DEPARTMENT OF HOMELAND SECURITY

Federal Emergency Management Agency

[Docket ID FEMA-2020-0024; OMB No. 1660-0149]

Agency Information Collection Activities: Submission for OMB Review; Comment Request; Requests for Special Priorities Assistance

AGENCY: Federal Emergency Management Agency, DHS.

ACTION: 30 Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 13, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, email address FEMA-Information-Collections-Management@fema.dhs.gov or Office of Policy and Program Analysis, Marc Geier, Federal Emergency Management Agency, 500 C Street SW, Washington, DC 20472, (telephone) 202-924-0196, or (email) FEMA-DPA@fema.dhs.gov.

SUPPLEMENTARY INFORMATION: This proposed information collection previously published in the Federal Register on August 3, 2020 at 85 FR 46688 with a 60-day public comment period. No comments were received. The purpose of this notice is to notify the public that FEMA will submit the information collection abstracted below to the Office of Management and Budget for review and clearance.

Collection of Information

Title: Requests for Special Priorities Assistance.

Type of information collection: Revision of a currently approved information collection.

OMB Number: 1660-0149.

Form Titles and Numbers: FEMA Form 009-0-142, Requests for Special Priorities Assistance.

Abstract: Contractors may request Special Priorities Assistance (SPA) when placing rated orders with suppliers, to obtain timely delivery of products, materials or services from suppliers, or for any other reason under the EMPAS, in support of approved national programs. Additionally, when responding to COVID-19, State and local governments, owners, operators, and the private sector may request SPA. FEMA Form 009-0-142 is used to apply for such assistance.

Affected Public: For-Profit Business; Private Non-Profit; State, local or Tribal government.

Estimated Number of Respondents: 20.

Estimated Number of Responses: 20.

Estimated Total Annual Burden Hours: 5.

Estimated Total Annual Respondent Cost: $288.

Estimated Respondents' Operation and Maintenance Costs: None.

Estimated Respondents' Capital and Start-Up Costs: None.

Estimated Total Annual Cost to the Federal Government: $52,857.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-22650 Filed 10-13-20; 8:45 am]

BILLING CODE 9111-19-P